DEPARTMENT OF ENERGY

Federal Energy Regulatory Commission

Combined Notice of Filings #1

Take notice that the Commission received the following electric corporate filings:

Docket Numbers: EC24-5-000.

Applicants: Frederickson Power L.P.

Description: Application for Authorization Under Section 203 of the Federal Power Act of Frederickson Power L.P.

Filed Date: 10/10/23.

Accession Number: 20231010-5288.

Comment Date: 5 p.m. ET 10/31/23.

Take notice that the Commission received the following exempt wholesale generator filings:

Docket Numbers: EG24-3-000.

Applicants: Inertia Energy Storage, LLC.

Description: Inertia Energy Storage, LLC submits Notice of Self-Certification of Exempt Wholesale Generator Status.

Filed Date: 10/10/23.

Accession Number: 20231010-5248.

Comment Date: 5 p.m. ET 10/31/23.

Docket Numbers: EG24-4-000.

Applicants: Torrecillas Energy Storage, LLC.

Description: Torrecillas Energy Storage, LLC submits Notice of Self-Certification of Exempt Wholesale Generator Status.

Filed Date: 10/10/23.

Accession Number: 20231010-5249.

Comment Date: 5 p.m. ET 10/31/23.

Take notice that the Commission received the following electric rate filings:

Docket Numbers: ER23-2590-000.

Applicants: Grover Hill Wind, LLC.

Description: Supplement to August 9, 2023 Grover Hill Wind, LLC tariff filing.

Filed Date: 10/4/23.

Accession Number: 20231004-5184.

Comment Date: 5 p.m. ET 10/25/23.

Docket Numbers: ER24-54-000.

Applicants: Appalachian Power Company.

Description: § 205(d) Rate Filing: OATT—Revise Attachment K, AEP Texas Inc. Rate Update to be effective 12/31/9998.

Filed Date: 10/6/23.

Accession Number: 20231006-5159.

Comment Date: 5 p.m. ET 10/27/23.

Docket Numbers: ER24-55-000.

Applicants: Silver Peak Energy, LLC.

Description: Baseline eTariff Filing: Silver Peak Energy, LLC MBR Tariff to be effective 11/15/2023.

Filed Date: 10/10/23.

Accession Number: 20231010-5002.

Comment Date: 5 p.m. ET 10/31/23.

Docket Numbers: ER24-56-000.

Applicants: Northern States Power Company, a Wisconsin corporation.

Description: § 205(d) Rate Filing: 2023-10-09 DPC FSA—North Wal—172-NSPW to be effective 10/10/2023.

Filed Date: 10/10/23.

Accession Number: 20231010-5009.

Comment Date: 5 p.m. ET 10/31/23.

Docket Numbers: ER24-57-000.

Applicants: PJM Interconnection, L.L.C.

Description: § 205(d) Rate Filing: Original ISA, Service Agreement No. 7099; Queue No. AE1-250 to be effective 9/11/2023.

Filed Date: 10/10/23.

Accession Number: 20231010-5013.

Comment Date: 5 p.m. ET 10/31/23.

Docket Numbers: ER24-58-000.

Applicants: PacifiCorp.

Description: § 205(d) Rate Filing: Construction Agreement Thermopolis Sub (Rate Schedule No. 782) to be effective 12/10/2023.

Filed Date: 10/10/23.

Accession Number: 20231010-5085.

Comment Date: 5 p.m. ET 10/31/23.

Docket Numbers: ER24-59-000.

Applicants: Grain Belt Express LLC.

Description: Application for Amendment to existing Negotiated Rate Authority of Grain Belt Express LLC.

Filed Date: 10/6/23.

Accession Number: 20231006-5218.

Comment Date: 5 p.m. ET 10/27/23.

Docket Numbers: ER24-60-000.

Applicants: PJM Interconnection, L.L.C.

Description: § 205(d) Rate Filing: Original ISA, SA No. 7089; Queue No. AE1-091 to be effective 9/11/2023.

Filed Date: 10/10/23.

Accession Number: 20231010-5142.

Comment Date: 5 p.m. ET 10/31/23.

Docket Numbers: ER24-61-000.

Applicants: Sky Ranch Solar, LLC.

Description: Baseline eTariff Filing: Sky Ranch Solar, LLC Application for Market-Based Rate Authorization to be effective 12/10/2023.

Filed Date: 10/10/23.

Accession Number: 20231010-5245.

Comment Date: 5 p.m. ET 10/31/23.

Docket Numbers: ER24-62-000.

Applicants: Duke Energy Indiana, LLC.

Description: § 205(d) Rate Filing: DEI—Hardy Hills Rate Schedule No. 281 to be effective 10/18/2023.

Filed Date: 10/10/23.

Accession Number: 20231010-5250.

Comment Date: 5 p.m. ET 10/31/23.

Docket Numbers: ER24-63-000.

Applicants: PJM Interconnection, L.L.C.

Description: § 205(d) Rate Filing: Amendment to ISA, Service Agreement No. 6024; Queue No. AB2-135 to be effective 12/11/2023.

Filed Date: 10/10/23.

Accession Number: 20231010-5267.

Comment Date: 5 p.m. ET 10/31/23.

Docket Numbers: ER24-64-000.

Applicants: PJM Interconnection, L.L.C.

Description: § 205(d) Rate Filing: ISA, First Revised Service Agreement No. 6517; Queue No. AE2-322 to be effective 9/7/2023.

Filed Date: 10/10/23.

Accession Number: 20231010-5276.

Comment Date: 5 p.m. ET 10/31/23.

Docket Numbers: ER24-65-000.

Applicants: Tri-State Generation and Transmission Association, Inc.

Description: § 205(d) Rate Filing: Amendment to Rate Schedule FERC No. 21 to be effective 12/11/2023.

Filed Date: 10/10/23.

Accession Number: 20231010-5284.

Comment Date: 5 p.m. ET 10/31/23.

Docket Numbers: ER24-66-000.

Applicants: Metropolitan Edison Company, PJM Interconnection, L.L.C.

Description: § 205(d) Rate Filing: Metropolitan Edison Company submits tariff filing per 35.13(a)(2)(iii: Met-Ed Amends 10 ECSAs (5325 5335 5401 5402 5403 5429 5431 5432 5433 5434) to be effective 12/31/9998.

Filed Date: 10/10/23.

Accession Number: 20231010-5294.

Comment Date: 5 p.m. ET 10/31/23.

Docket Numbers: ER24-67-000.

Applicants: Niagara Mohawk Power Corporation.

Description: § 205(d) Rate Filing: 2023-10-10 Segment A Agreement Filing in Response to Order in Docket ER23-1271 to be effective 8/5/2023.

Filed Date: 10/10/23.

Accession Number: 20231010-5300.

Comment Date: 5 p.m. ET 10/31/23.

Docket Numbers: ER24-68-000.

Applicants: PJM Interconnection, L.L.C.

Description: § 205(d) Rate Filing: Original ISA, Service Agreement No. 7101; Queue No. AE1-072 to be effective 9/7/2023.

Filed Date: 10/10/23.

Accession Number: 20231010-5326.

Comment Date: 5 p.m. ET 10/31/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: October 10, 2023.
Debbie-Anne A. Reese,
Deputy Secretary.

[FR Doc. 2023-22764 Filed 10-13-23; 8:45 am]

BILLING CODE 6717-01-P